ENVIRONMENTAL PROTECTION AGENCY

40 CFR Part 52

[EPA-R07-OAR-2015-0105 FRL-9927-41-Region 7]

Approval and Promulgation of Air Quality Implementation Plans; Missouri; Update to Materials Incorporated by Reference

AGENCY: Environmental Protection Agency (EPA).

ACTION: Final rule; notice of administrative change.

SUMMARY: The Environmental Protection Agency (EPA) is updating the materials submitted by Missouri that are incorporated by reference (IBR) into the state implementation plan (SIP). EPA is also notifying the public of the correction of certain typographical errors within the IBR table. The regulations affected by this update have been previously submitted by the state agency and approved by EPA. This update affects the SIP materials that are available for public inspection at the National Archives and Records Administration (NARA), and the Regional Office.

DATES: This rule is effective on August 6, 2015.

ADDRESSES: SIP materials which are incorporated by reference into 40 CFR part 52 are available for inspection at the following locations: Environmental Protection Agency, Region 7, 11201 Renner Boulevard, Lenexa, Kansas 66219; or at http://www.epa.gov/region07/air/rules/fedapprv.htm; and the National Archives and Records Administration. For information on the availability of this material at NARA, call (202) 741-6030, or go to: www.archives.gov/federal-register/cfr/ibr-locations.html.

FOR FURTHER INFORMATION CONTACT: Jan Simpson at (913) 551-7089, or by email at simpson.jan@epa.gov.

SUPPLEMENTARY INFORMATION:

I. Background

The SIP is a living document which the state revises as necessary to address its unique air pollution problems. Therefore, EPA from time to time must take action on SIP revisions containing new and/or revised regulations to make them part of the SIP. On May 22, 1997 (62 FR 27968), EPA revised the procedures for incorporating by reference Federally-approved SIPs, as a result of consultations between EPA and the Office of Federal Register. The description of the revised SIP document, IBR procedures and “Identification of plan” format are discussed in further detail in the May 22, 1997, Federal Register document.

On June 29, 1999, EPA published a document in the Federal Register (64 FR 34717) beginning the new IBR procedure for Missouri. On May 24, 2004 (69 FR 29435), and on October 8, 2009 (74 FR 51783), EPA published updates to the IBR material for Missouri.

In this document, EPA is publishing an updated set of tables listing the regulatory (i.e., IBR) materials in the Missouri SIP taking into account the additions, deletions, and revisions to those materials previously submitted by the state agency and approved by EPA. We are removing the EPA Headquarters Library from paragraph (b)(3), as IBR materials are no longer available at this location. In addition, EPA has found errors in certain entries listed in 40 CFR 52.1320(c) and (e), as amended in the published IBR update actions listed above, and is correcting them in this document. Table (c) revisions include:

• Adding the inadvertent omission of the following explanation to the explanation column for 10-1.020(1) and (2): Only sections (1) and (2) are Federally approved.

• removing rescinded rule 10-2.040

• removing rescinded rule 10-2.150

• moving text from the explanation column to the EPA approval date column for 10-2.230, 10-2.290, 10-2.310, and 10-2.320

• removing outdated text in the explanation column for 10-2.300

• removing rescinded rule 10-3.060

• removing rescinded rule 10-4.040

• removing rescinded rule 10-4.140

• removing rescinded rule 10-5.030

• removing rescinded rule 10-5.250

• correcting the Federal Register citation in the EPA approval date column for 10-5.330

• correcting the Federal Register citation in the EPA approval date column and adding text in the explanation column for 10-5.340

• moving text from the explanation column to the EPA approval date column for 10-5.350, 10-5.360, 10-5.370, and 10-5.410

• correcting the Federal Register citation in the EPA approval date column for 10-5.442

• correcting the Federal Register citation in the EPA approval date column for 10-6.061

• correcting the state effective date and removing outdated text in the explanation column for 10-6.300

• removing outdated text in the explanation column for 10-6.405

• correcting the chapter title for Springfield to “Springfield-Chapter 6-Air Pollution Control Standards”

• removing rescinded articles VII, IX and XX under Springfield

Table (d) is being revised by:

• removing text in the explanation column for (8)

• removing text in the explanation column for (21)

Table (e) is being revised by:

• removing text in the explanation column for (16)

• adding text in the explanation column for (11)-(62)

• removing outdated/confusing text in the explanation column for (43), (44), (48) and (53).

II. EPA Action

In this action, EPA is doing the following:

A. Announcing the update to the IBR material as of December 31, 2014;

B. Revising the entry in § 52.1320(b) to reflect the update and corrections;

C. Revising certain entries in § 52.1320(c), (d), and (e) as described above;

D. Correcting the date format in the “State effective date” or “State submittal date” and “EPA approval date” columns in § 52.1320(c), (d), and (e). Dates are numerical month/day/year without additional zeros;

E. Modifying the Federal Register citations in § 52.1320(c), (d), and (e) to reflect the beginning page of the preamble as opposed to the page number of the regulatory text.

EPA has determined that this rule falls under the “good cause” exemption in section 553(b)(3)(B) of the Administrative Procedures Act (APA) which, upon finding “good cause,” authorizes agencies to dispense with public participation and section 553(d)(3), which allows an agency to make a rule effective immediately (thereby avoiding the 30-day delayed effective date otherwise provided for in the APA). This rule simply codifies provisions which are already in effect as a matter of law in Federal and approved State programs. Under section 553 of the APA, an agency may find good cause where procedures are “impractical, unnecessary, or contrary to the public interest.” Public comment is “unnecessary” and “contrary to the public interest” since the codification only reflects existing law. Immediate notice in the CFR benefits the public by providing notice of the updated Missouri SIP compilation.

Statutory and Executive Order Reviews

In this rule, EPA is finalizing regulatory text that includes incorporation by reference. In accordance with requirements of 1 CFR 51.5, EPA is finalizing the incorporation by reference of the Missouri regulations described in the amendments to 40 CFR part 52 set forth below. EPA has made, and will continue to make, these documents generally available electronically through www.regulations.gov and/or in hard copy at the appropriate EPA office (see the ADDRESSES section of this preamble for more information).

Under the CAA, the Administrator is required to approve a SIP submission that complies with the provisions of the Act and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this action:

• Is not a “significant regulatory action” under the terms of Executive Order 12866 (58 FR 51735, October 4, 1993) and is therefore not subject to review under Executive Orders 12866 and 13563 (76 FR 3821, January 21, 2011).

• does not impose an information collection burden under the provisions of the Paperwork Reduction Act (44 U.S.C. 3501 et seq.);

• is certified as not having a significant economic impact on a substantial number of small entities under the Regulatory Flexibility Act (5 U.S.C. 601 et seq.);

• does not contain any unfunded mandate or significantly or uniquely affect small governments, as described in the Unfunded Mandates Reform Act of 1995 (Pub. L. 104-4);

• does not have Federalism implications as specified in Executive Order 13132 (64 FR 43255, August 10, 1999);

• is not an economically significant regulatory action based on health or safety risks subject to Executive Order 13045 (62 FR 19885, April 23, 1997);

• is not a significant regulatory action subject to Executive Order 13211 (66 FR 28355, May 22, 2001);

• is not subject to requirements of Section 12(d) of the National Technology Transfer and Advancement Act of 1995 (15 U.S.C. 272 note) because application of those requirements would be inconsistent with the CAA; and

• does not provide EPA with the discretionary authority to address, as appropriate, disproportionate human health or environmental effects, using practicable and legally permissible methods, under Executive Order 12898 (59 FR 7629, February 16, 1994).

The SIP is not approved to apply on any Indian reservation land or in any other area where EPA or an Indian tribe has demonstrated that a tribe has jurisdiction. In those areas of Indian country, the rule does not have tribal implications and will not impose substantial direct costs on tribal governments or preempt tribal law as specified by Executive Order 13175 (65 FR 67249, November 9, 2000).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

EPA has also determined that the provisions of section 307(b)(1) of the CAA pertaining to petitions for judicial review are not applicable to this action. Prior EPA rulemaking actions for each individual component of the Missouri SIP compilations previously afforded interested parties the opportunity to file a petition for judicial review in the United States Court of Appeals for the appropriate circuit within 60 days of such rulemaking action. Thus, EPA sees no need in this action to reopen the 60-day period for filing such petitions for judicial review for this “Identification of plan” reorganization update action for the State of Missouri.

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Dated: April 7, 2015.
Mark Hague,
Acting Regional Administrator, Region 7.

For the reasons stated in the preamble, the EPA amends 40 CFR part 52 as set forth below:

PART 52—APPROVAL AND PROMULGATION OF IMPLEMENTATION PLANS

1. The authority citation for part 52 continues to read as follows:

Authority: 42 U.S.C. 7401 et seq.

Subpart AA—Missouri

2. In § 52.1320, paragraphs (b), (c), (d), and (e) are revised to read as follows:

§ 52.1320 Identification of Plan.

* * * * *

(b) Incorporation by reference. (1) Material listed in paragraphs (c) and (d) of this section with an EPA approval date prior to December 31, 2014, was approved for incorporation by reference by the Director of the Federal Register in accordance with 5 U.S.C. 552(a) and 1 CFR part 51. Material is incorporated as it exists on the date of the approval, and notice of any change in the material will be published in the Federal Register. Entries in paragraphs (c) and (d) of this section with EPA approval dates after December 31, 2014, will be incorporated by reference in the next update to the SIP compilation.

(2) EPA Region 7 certifies that the rules/regulations provided by EPA in the SIP compilation at the addresses in paragraph (b)(3) of this section are an exact duplicate of the officially promulgated state rules/regulations which have been approved as part of the SIP as of December 31, 2014.

(3) Copies of the materials incorporated by reference may be inspected at the Environmental Protection Agency, Region 7, Air Planning and Development Branch, 11201 Renner Boulevard, Lenexa, Kansas 66219; and the National Archives and Records Administration (NARA). For information on the availability of this material at NARA, call (202) 741-6030, or go to: www.archives.gov/federal-register/cfr/ibr-locations.html.

(c) EPA-approved regulations.

EPA-Approved Missouri Regulations
Missouri citation | Title | State effective date | EPA approval date | Explanation
Missouri Department of Natural Resources
Chapter 1—Organization
10-1.020(1) and (2) | Commission Voting and Meeting Procedures | 7/30/98 | 6/21/13, 78 FR 37457 | Only sections (1) and (2) are Federally approved.
Chapter 2—Air Quality Standards and Air Pollution Control Regulations for the Kansas City Metropolitan Area
10-2.090 | Incinerators | 2/25/70 | 3/18/80, 45 FR 17145 | The state has rescinded this rule.
10-2.100 | Open Burning Restrictions | 4/2/84 | 8/31/84, 49 FR 34484 |
10-2.205 | Control of Emissions from Aerospace Manufacture and Rework Facilities | 3/30/01 | 4/24/02, 67 FR 20036 |
10-2.210 | Control of Emissions From Solvent Metal Cleaning | 2/29/08 | 6/20/08, 73 FR 35074 |
10-2.215 | Control of Emissions from Solvent Cleanup Operations | 5/30/01 | 4/24/02, 67 FR 20036 |
10-2.220 | Liquefied Cutback Asphalt Paving Restricted | 6/3/91 | 6/23/92, 57 FR 27939 |
10-2.230 | Control of Emissions from Industrial Surface Coating Operations | 11/20/91 | 4/3/95, 60 FR 16806 (correction). 8/24/94, 59 FR 43480 |
10-2.260 | Control of Petroleum Liquid Storage, Loading, and Transfer | 4/30/04 | 2/2/05, 70 FR 5379 |
10-2.290 | Control of Emissions From Rotogravure and Flexographic Printing Facilities | 3/30/92 | 9/6/94, 59 FR 43376 (correction). 8/30/93, 58 FR 45451 | The state rule has Sections (6)(A) and (6)(B), which EPA has not approved.
10-2.300 | Control of Emissions from the Manufacturing of Paints, Varnishes, Lacquers, Enamels and Other Allied Surface Coating Products | 11/20/91 | 3/26/03, 68 FR 14539 |
10-2.310 | Control of Emissions from the Application of Automotive Underbody Deadeners | 11/20/91 | 4/3/95, 60 FR 16806 (correction). 8/24/94, 59 FR 43480 |
10-2.320 | Control of Emissions from Production of Pesticides and Herbicides | 11/20/91 | 4/3/95, 60 FR 16806 (correction). 8/24/94, 59 FR 43480 |
10-2.330 | Control of Gasoline Reid Vapor Pressure | 7/30/13 | 9/4/14, 79 FR 52564 |
10-2.340 | Control of Emissions from Lithographic Printing Facilities | 9/30/03 | 10/30/03, 68 FR 61758 |
10-2.360 | Control of Emissions from Bakery Ovens | 11/30/95 | 7/20/98, 63 FR 38755 |
10-2.385 | Control of Heavy Duty Diesel Vehicle Idling Emissions | 7/30/12 | 3/18/14, 79 FR 15017 |
10-2.390 | Kansas City Area Transportation Conformity Requirements | 7/27/07 | 10/18/07, 72 FR 59014 |
Chapter 3—Air Pollution Control Regulations for the Outstate Missouri Area
10-3.030 | Open Burning Restrictions | 7/31/98 | 4/1/99, 64 FR 15688 | The state has rescinded this rule.
10-3.040 | Incinerators | 2/1/78 | 3/18/80, 45 FR 17145
Chapter 4—Air Quality Standards and Air Pollution Control Regulations for Springfield-Greene County Area
10-4.080 | Incinerators | 12/16/69 | 3/18/80, 45 FR 17145 | The state has rescinded this rule.
10-4.090 | Open Burning Restrictions | 4/2/84 | 8/31/84, 49 FR 34484 |
Chapter 5—Air Quality Standards and Air Pollution Control Regulations for the St. Louis Metropolitan Area
10-5.040 | Use of Fuel in Hand-Fired Equipment Prohibited | 9/18/70 | 3/18/80, 45 FR 17145 |
10-5.060 | Refuse Not To Be Burned in Fuel Burning Installations | 9/18/70 | 3/18/80, 45 FR 17145 | The state has rescinded this rule.
10-5.070 | Open Burning Restrictions | 1/29/95 | 2/17/00, 65 FR 8060 |
10-5.080 | Incinerators | 9/18/70 | 3/18/80, 45 FR 17145 | The state has rescinded this rule.
10-5.120 | Information on Sales of Fuels to be Provided and Maintained | 9/18/70 | 3/18/80, 45 FR 17145 |
10-5.130 | Certain Coals to be Washed | 5/30/12 | 8/19/14, 79 FR 48998 |
10-5.220 | Control of Petroleum Liquid Storage, Loading and Transfer | 9/30/07 | 4/2/08, 73 FR 17893 |
10-5.240 | Additional Air Quality Control Measures May Be Required When Sources Are Clustered in a Small Land Area | 9/18/70 | 3/18/80, 45 FR 17145 |
10-5.295 | Control of Emissions From Aerospace Manufacturing and Rework Facilities | 2/29/00 | 5/18/00, 65 FR 31489 |
10-5.300 | Control of Emissions from Solvent Metal Cleaning | 11/30/06 | 3/9/07, 72 FR 10610 |
10-5.310 | Liquefied Cutback Asphalt Restricted | 3/1/89 | 3/5/90, 55 FR 7712 |
10-5.330 | Control of Emissions from Industrial Surface Coating Operations | 8/30/11 | 1/23/12, 77 FR 3144 |
10-5.340 | Control of Emissions From Rotogravure and Flexographic Printing Facilities | 8/30/11 | 1/23/12, 77 FR 3144 | The state rule has Section (6)(A)(B), which the EPA has not approved.
10-5.350 | Control of Emissions From Manufacture of Synthesized Pharmaceutical Products | 11/20/91 | 4/3/95, 60 FR 16806 (correction). 8/24/94, 59 FR 43480 |
10-5.360 | Control of Emissions from Polyethylene Bag Sealing Operations | 11/20/91 | 4/3/95, 60 FR 16806 (correction). 8/24/94, 59 FR 43480 |
10-5.370 | Control of Emissions from the Application of Deadeners and Adhesives | 11/20/91 | 4/3/95, 60 FR 16806 (correction). 8/24/94, 59 FR 43480 |
10-5.385 | Control of Heavy Duty Diesel Vehicle Idling Emissions | 7/30/2012 | 3/18/14, 79 FR 15017 |
10-5.390 | Control of Emissions from Manufacture of Paints, Varnishes, Lacquers, Enamels and Other Allied Surface Coating Products | 8/30/00 | 8/14/01, 66 FR 42605 |
10-5.410 | Control of Emissions From Manufacture of Polystyrene Resin | 11/20/91 | 4/3/95, 60 FR 16806 (correction). 8/24/94, 59 FR 43480 |
10-5.420 | Control of Equipment Leaks from Synthetic Organic Chemical and Polymer Manufacturing Plants | 3/11/89 | 3/5/90, 55 FR 7712 |
10-5.440 | Control of Emissions from Bakery Ovens | 12/30/96 | 2/17/00, 65 FR 8060 |
10-5.442 | Control of Emissions from Offset Lithographic Printing Operations | 8/30/11 | 1/23/12, 77 FR 3144 |
10-5.450 | Control of VOC Emissions from Traffic Coatings | 5/28/95 | 2/17/00, 65 FR 8060 |
10-5.451 | Control of Emissions from Aluminum Foil Rolling | 9/30/00 | 7/20/01, 66 FR 37906 |
10-5.455 | Control of Emissions from Solvent Cleaning Operations | 8/30/11 | 1/6/14, 79 FR 580 |
10-5.480 | St. Louis Area Transportation Conformity Requirements | 2/28/11 | 8/29/13, 78 FR 53247 |
10-5.490 | Municipal Solid Waste Landfills | 5/30/12 | 4/15/14, 79 FR 21137 |
10-5.500 | Control of Emissions From Volatile Organic Liquid Storage | 2/29/00 | 5/18/00, 65 FR 31489 |
10-5.510 | Control of Emissions of Nitrogen Oxides | 5/30/06 | 11/6/06, 71 FR 64888 |
10-5.520 | Control of Volatile Organic Compound Emissions From Existing Major Sources | 2/29/00 | 5/18/00, 65 FR 31489 |
10-5.530 | Control of Volatile Organic Compound Emissions From Wood Furniture Manufacturing Operations | 2/29/00 | 5/18/00, 65 FR 31489 |
10-5.540 | Control of Emissions From Batch Process Operations | 2/29/00 | 5/18/00, 65 FR 31489 |
10-5.550 | Control of Volatile Organic Compound Emissions From Reactor Processes and Distillation Operations Processes in the Synthetic Organic Chemical Manufacturing Industry | 2/29/00 | 5/18/00, 65 FR 31489 |
10-5.570 | Control of Sulfur Emissions From Stationary Boilers | 9/30/09 | 1/25/13, 78 FR 5303 |
Chapter 6—Air Quality Standards, Definitions, Sampling and Reference Methods, and Air Pollution Control Regulations for the State of Missouri
10-6.010 | Ambient Air Quality Standards | 5/30/10 | 9/20/12, 77 FR 58309 |
10-6.020 | Definitions and Common Reference Tables | 2/28/13 | 4/2/13, 79 FR 14613 |
10-6.030 | Sampling Methods for Air Pollution Sources | 2/28/06 | 12/5/06, 71 FR 70468 |
10-6.040 | Reference Methods | 5/30/10 | 9/20/12, 77 FR 58309 |
10-6.050 | Start-up, Shutdown, and Malfunction Conditions | 7/30/10 | 3/5/14, 79 FR 12394 |
|  |  |  | —Provisions of the 2010 PM2.5 PSD—Increments, SILs and SMCs rule (75 FR 64865, October 20, 2010) relating to SILs and SMCs that were affected by the January 22, 2013 U.S. Court of Appeals decision are not SIP approved.
|  |  |  | —Provisions of the 2002 NSR reform rule relating to the Clean Unit Exemption, Pollution Control Projects, and exemption from recordkeeping provisions for certain sources using the actual-to-projected-actual emissions projections test are not SIP approved.
|  |  |  | —In addition, we have not approved Missouri's rule incorporating EPA's 2007 revision of the definition of “chemical processing plants” (the “Ethanol Rule,” 72 FR 24060 (May 1, 2007) or EPA's 2008 “fugitive emissions rule,” 73 FR 77882 (December 19, 2008).
|  |  |  | —Although exemptions previously listed in 10 CSR 10-6.060 have been transferred to 10 CSR 10-6.061, the Federally-approved SIP continues to include the following exemption, “Livestock and livestock handling systems from which the only potential contaminant is odorous gas.”
10-6.060 | Construction Permits Required | 9/30/12 | 6/21/13, 78 FR 37451 | —Section 9, pertaining to hazardous air pollutants, is not SIP approved.
10-6.061 | Construction Permits Exemptions | 7/30/06 | 12/4/06, 71 FR 70315 | Section (3)(A)2.D. is not included in the SIP.
10-6.062 | Construction Permits By Rule | 5/30/07 | 9/26/07, 72 FR 54562 | Section (3)(B)4. is not included in the SIP.
10-6.065 | Operating Permits | 9/30/05 | 2/21/07, 72 FR 7829 | Section (4) Basic State Operating Permits, has not been approved as part of the SIP.
10-6.110 | Submission of Emission Data, Emission Fees, and Process Information | 9/30/10 | 12/14/11, 76 FR 77701 | Section (3)(A), Emissions Fees, has not been approved as part of the SIP.
10-6.120 | Restriction of Emissions of Lead from Specific Lead Smelter-Refinery Installations | 3/30/05 | 6/12/06, 71 FR 33622 |
10-6.130 | Controlling Emissions During Episodes of High Air Pollution Potential | 5/30/10 | 9/20/12, 77 FR 58309 |
10-6.140 | Restriction of Emissions Credit for Reduced Pollutant Concentrations from the Use of Dispersion Techniques | 5/1/86 | 3/31/89, 54 FR 13184 |
10-6.150 | Circumvention | 8/15/90 | 4/17/91, 56 FR 15500 |
10-6.170 | Restriction of Particulate Matter to the Ambient Air Beyond the Premises of Origin | 8/30/98 | 3/31/00, 65 FR 17164 |
10-6.180 | Measurement of Emissions of Air Contaminants | 11/19/90 | 7/23/91, 56 FR 33714 |
10-6.210 | Confidential Information | 1/27/95 | 2/29/96, 61 FR 7714 |
10-6.220 | Restriction of Emission of Visible Air Contaminants | 9/30/08 | 12/9/09, 74 FR 68689 | Subsection (1)(I) referring to the open burning rule, 10 CSR 10-6.045, is not SIP approved.
10-6.260 | Restriction of Emission of Sulfur Compounds | 9/30/12 | 11/22/13, 78 FR 69995 | Section (3)(A)(1-4) approved pursuant to 111d only.
10-6.280 | Compliance Monitoring Usage | 3/30/02 | 8/27/02, 67 FR 54961 |
10-6.300 | Conformity of General Federal Actions to State Implementation Plans | 8/30/11 | 9/18/13, 78 FR 57267 |
10-6.330 | Restriction of Emissions from Batch-type Charcoal Kilns | 6/30/98 | 12/8/98, 63 FR 67591 |
10-6.350 | Emissions Limitations and Emissions Trading of Oxides of Nitrogen | 5/30/07 | 4/2/08, 73 FR 17890 |
10-6.360 | Control of NOX Emissions From Electric Generating Units and Non-Electric Generating Boilers | 5/30/07 | 4/2/08, 73 FR 17890 |
10-6.362 | Clean Air Interstate Rule Annual NOX Trading Program | 5/18/07 | 12/14/07, 72 FR 71073 |
10-6.364 | Clean Air Interstate Rule Seasonal NOX Trading Program | 5/18/07 | 12/14/07, 72 FR 71073 |
10-6.366 | Clean Air Interstate Rule SO2 Trading Program | 5/18/07 | 12/14/07, 72 FR 71073 |
10-6.380 | Control of NOX Emissions From Portland Cement Kilns | 10/30/05 | 8/15/06, 71 FR 46860 |
10-6.390 | Control of NOX Emissions From Large Stationary Internal Combustion Engines | 10/30/10 | 7/18/14, 79 FR 41908 |
10-6.400 | Restriction of Emission of Particulate Matter From Industrial Processes | 2/28/11 | 2/20/13, 78 FR 11758 |
10-6.405 | Restriction of Particulate Matter Emissions From Fuel Burning Equipment Used for Indirect Heating | 10/30/11 | 9/13/12, 77 FR 56555 |
10-6.410 | Emissions Banking and Trading | 9/30/12 | 11/22/13, 78 FR 69995 |
Missouri Department of Public Safety
Division 50—State Highway Patrol
Chapter 2—Motor Vehicle Inspection
50-2.010 | Definitions | 4/11/82 | 8/12/85, 50 FR 32411 |
50-2.020 | Minimum Inspection Station Requirements | 10/11/82 | 8/12/85, 50 FR 32411 |
50-2.030 | Inspection Station Classification | 12/11/77 | 8/12/85, 50 FR 32411 |
50-2.040 | Private Inspection Stations | 5/31/74 | 8/12/85, 50 FR 32411 |
50-2.050 | Inspection Station Permits | 11/11/79 | 8/12/85, 50 FR 32411 |
50-2.060 | Display of Permits, Signs and Poster | 11/31/74 | 8/12/85, 50 FR 32411 |
50-2.070 | Hours of Operation | 11/11/83 | 8/12/85, 50 FR 32411 |
50-2.080 | Licensing of Inspector/Mechanics | 4/13/78 | 8/12/85, 50 FR 32411 |
50-2.090 | Inspection Station Operational Requirements | 8/11/78 | 8/12/85, 50 FR 32411 |
50-2.100 | Requisition of Inspection Stickers and Decals | 6/12/80 | 8/12/85, 50 FR 32411 |
50-2.110 | Issuance of Inspection Stickers and Decals | 12/11/77 | 8/12/85, 50 FR 32411 |
50-2.120 | MVI-2 Form | 11/11/83 | 8/12/85, 50 FR 32411 |
50-2.130 | Violations of Laws or Rules Penalty | 5/31/74 | 8/12/85, 50 FR 32411 |
50-2.260 | Exhaust System | 5/31/74 | 8/12/85, 50 FR 32411 |
50-2.280 | Air Pollution Control Devices | 12/11/80 | 8/12/85, 50 FR 32411 |
50-2.290 | Fuel Tank | 5/3/74 | 8/12/85, 50 FR 32411 |
50-2.350 | Applicability of Motor Vehicle Emission Inspection | 5/1/84 | 8/12/85, 50 FR 32411 |
50-2.360 | Emission Fee | 11/1/83 | 8/12/85, 50 FR 32411 |
50-2.370 | Inspection Station Licensing | 12/21/90 | 10/13/92, 57 FR 46778 |
50-2.380 | Inspector/Mechanic Licensing | 11/1/83 | 8/12/85, 50 FR 32411 |
50-2.390 | Safety/Emission Stickers | 11/1/83 | 8/12/85, 50 FR 32411 |
50-2.401 | General Specifications | 12/21/90 | 10/13/92, 57 FR 46778 |
50-2.402 | MAS Software Functions | 12/21/90 | 10/13/92, 57 FR 46778 | The SIP does not include Section (6), Safety Inspection.
50-2.403 | Missouri Analyzer System (MAS) Display and Program Requirements | 12/21/90 | 10/13/92, 57 FR 46778 | The SIP does not include Section (3)(B)4, Safety Inspection Sequences or (3)(M)5(II), Safety Inspection Summary.
50-2.404 | Test Record Specifications | 12/21/90 | 10/13/92, 57 FR 46778 | The SIP does not include Section (5), Safety Inspection Results.
50-2.405 | Vehicle Inspection Certificate, Vehicle Inspection Report, and Printer Function Specifications | 12/21/90 | 10/13/92, 57 FR 46778 |
50-2.406 | Technical Specifications for the MAS | 12/21/90 | 10/13/92, 57 FR 46778 |
50-2.407 | Documentation, Logistics and Warranty Requirements | 12/21/90 | 10/13/92, 57 FR 46778 |
50-2.410 | Vehicles Failing Reinspection | 12/21/90 | 10/13/92, 57 FR 46778 |
50-2.420 | Procedures for Conducting Only Emission Tests | 12/21/90 | 10/13/92, 57 FR 46778 |
Kansas City Chapter 8—Air Quality
8-2 | Definitions | 12/10/98 | 12/22/99, 64 FR 71663 |
8-4 | Open burning | 10/31/96 | 4/22/98, 65 FR 19823 |
8-5 | Emission of particulate matter | 12/10/98 | 12/22/99, 64 FR 71663 | Only subsections 8-5(c)(1)b, 8-5(c)(1)c, 8-5(c)(2)a, 8-5(c)(3)a, 8-5(c)(3)b, 8-5(c)(3)c, 8-5(c)(3)d are approved in the SIP.
Springfield Chapter 6—Air Pollution Control Standards
Article I | Definitions | 12/04/08 | 10/21/10, 75 FR 64953 | Only Section 6-2 is approved by EPA.
Article II | Administrative and Enforcement | 12/04/08 | 10/21/10, 75 FR 64953 | Only Sections 6-151, 155, 156, and 171 are approved by EPA.
Article V | Incinerators | 12/04/08 | 10/21/10, 75 FR 64953 | Only Sections 6-311 through 314 are approved by EPA.
St. Louis City Ordinance 68657
Section 6 | Definitions | 8/28/03 | 12/9/03, 68 FR 68521 | The phrase other than liquids or gases in the Refuse definition has not been approved.
Section 15 | Open Burning Restrictions | 8/28/03 | 12/9/03, 68 FR 68521 |

(d) EPA-approved state source-specific permits and orders.

EPA-Approved Missouri Source-Specific Permits and Orders
Name of source | Order/Permit number | State effective date | EPA Approval date | Explanation
(1) ASARCO Inc. Lead Smelter, Glover, MO | Order | 8/13/80 | 4/27/81, 46 FR 23412 |
(2) St. Joe Lead (Doe Run) Company Lead Smelter, Herculaneum, MO | Order | 3/21/84 | 6/11/84, 49 FR 24022 |
(3) AMAX Lead (Doe Run) Company Lead Smelter, Boss, MO | Order | 9/27/84 | 1/7/85, 50 FR 768 |
(4) Gusdorf Operating Permit 11440 Lackland Road, St. Louis County, MO | Permit Nos: 04682-04693 | * 4/29/80 | 10/15/84, 49 FR 40164 |
(5) Doe Run Lead Smelter, Herculaneum, MO | Consent Order | 3/9/90 | 3/6/92, 57 FR 8076 |
(6) Doe Run Lead Smelter, Herculaneum, MO | Consent Order | 8/17/90 | 3/6/92, 57 FR 8076 |
(7) Doe Run Lead Smelter, Herculaneum, MO | Consent Order | 7/2/93 | 5/5/95, 60 FR 22274 |
(8) Doe Run Lead Smelter, Herculaneum, MO | Consent Order (Modification) | 4/28/94 | 5/5/95, 60 FR 22274 |
(9) Doe Run Lead Smelter, Herculaneum, MO | Consent Order (Modification) | 11/23/94 | 5/5/95, 60 FR 22274 |
(10) Doe Run Buick Lead Smelter, Boss, MO | Consent Order | 7/2/93 | 8/4/95, 60 FR 39851 |
(11) Doe Run Buick Lead Smelter, Iron County, MO | Consent Order (Modification) | 9/29/94 | 8/4/95, 60 FR 39851 |
(12) ASARCO Glover Lead Smelter, Glover, MO | Consent Decree CV596-98CC with exhibits A-G | 7/30/96 | 3/5/97, 62 FR 9970 |
(13) Eagle-Picher Technologies, Joplin, MO | Consent Agreement | 08/26/99 | 4/24/00, 65 FR 21649 |
(14) Doe Run Resource Recycling Facility near Buick, MO | Consent Order | 5/11/00 | 10/18/00, 65 FR 62295 |
(15) St. Louis University | Medical Waste Incinerator | 9/22/92 | 4/22/98, 63 FR 19823 |
(16) St. Louis University | Permit Matter No. 00-01-004 | 1/31/00 | 10/26/00, 65 FR 64156 |
(17) St. Joseph Light & Power SO2 | Consent Decree | 5/21/01 | 11/15/01, 66 FR 57389 |
(18) Asarco, Glover, MO | Modification of Consent Decree, CV596-98CC | 7/31/00 | 4/16/02, 67 FR 18497 |
(19) Doe Run, Herculaneum, MO | Consent Judgment, CV301-0052C-J1, with Work Practice Manual and S.O.P. for Control of Lead Emissions (Rev 2000) | 1/5/01 | 4/16/02, 67 FR 18497 |
(20) Springfield City Utilities James River Power Station SO2 | Consent Agreement | 12/6/01 | 3/25/02, 67 FR 13570 |
(21) St. Louis University | Permit Matter No. 00-01-004 | 8/28/03 | 12/9/03, 68 FR 68521 |
(22) Doe Run Lead Smelter, Glover, MO | Settlement Agreement | 10/31/03 | 10/29/04, 69 FR 63072 |
(23) Grossman Iron and Steel Company | Permit No. SR00.045A | 7/19/06 | 12/4/06, 71 FR 70312 |
(24) Doe Run Herculaneum, MO | Consent Judgment Modification, CV301-0052CCJ1 | 12/20/05 | 5/4/07, 72 FR 25203 |
(25) Doe Run Herculaneum, MO | Consent Judgment Modification, 07JE-CC00552 | 5/21/07 7/29/09 modification | 2/17/12, 77 FR 9529 | This approval does not include any subsequent modifications after 2009.
(26) Holcim |  | 4/19/2009 | 6/26/2012 77 FR 38007 | § 52.1339(c); Limited Approval.
(27) Doe Run Herculaneum, MO | Consent Judgment Modification 07JE-CC00552 | 10/19/11 | 10/20/14 and 79 FR 62574 | Modification to section 2.B.1. of the 2007 Consent Judgment.
(28) Doe Run Herculaneum, MO | Consent Judgment 13JE-CC00557 | 6/19/13 | 10/20/14 and 79 FR 62574 |
* St Louis County.

(e) EPA approved nonregulatory provisions and quasi-regulatory measures.

EPA-Approved Missouri Nonregulatory SIP Provisions
Name of nonregulatory SIP provision | Applicable geographic or nonattainment area | State submittal date | EPA approval date | Explanation
(1) Kansas City and Outstate Air Quality Control Regions Plan | Kansas City and Outstate | 1/24/72 | 5/31/72, 37 FR 10875 |
(2) Implementation Plan for the Missouri portion of the St. Louis Interstate Air Quality Control Region | St. Louis | 1/24/72 | 5/31/72, 37 FR 10875 |
(3) Effects of adopting Appendix B to NO2 emissions | St. Louis | 3/27/72 | 5/31/72, 37 FR 10875 |
(4) CO air quality data base | St. Louis | 5/2/72 | 5/31/72, 37 FR 10875 |
(5) Budget and manpower projections | Statewide | 2/28/72 | 10/28/72, 37 FR 23089 |
(6) Emergency episode manual | Kansas City | 5/11/72 | 10/28/72, 37 FR 23089 |
(7) Amendments to Air Conservation Law | Statewide | 7/12/72 | 10/28/72, 37 FR 23089 |
(8) Air monitoring plan | Outstate | 7/12/72 | 10/28/72, 37 FR 23089 |
(9) Amendments to Air Conservation Law | Statewide | 8/8/72 | 10/28/72, 37 FR 23089 |
(10) Transportation control strategy | Kansas City | 5/11/73 5/21/73 | 6/22/73, 38 FR 16550 |
(11) Analysis of ambient air quality data and recommendation to not designate the area as an air quality maintenance area | Kansas City | 4/11/74 | 3/2/76, 41 FR 8956 | [FRL 484-4].
(12) Recommendation to designate air quality maintenance areas | St. Louis, Columbia, Springfield | 5/6/74 | 9/9/75, 40 FR 41942 | [FRL 418-5].
(13) Plan to attain the NAAQS | Kansas City, St. Louis | 7/2/79 | 4/9/80, 45 FR 24140 | [FRL 1456-1]. Correction notice published 7/11/80.
(14) Schedule for I/M program and commitment regarding difficult transportation control measures (TCMs) | St. Louis | 9/9/80 | 3/16/81, 46 FR 16895 | [A-7-FRL-1778-3].
(15) Lead SIP | Statewide | 9/2/80, 2/11/81, 2/13/81 | 4/27/81, 46 FR 23412, 7/19/84, 49 FR 29218 | [A7 FRL 1802-8], [MO 1515; OAR-FRL-2633-8]. Correction notice published 5/15/81.
(16) Report on recommended I/M program | St. Louis | 12/16/80 | 8/27/81, 46 FR 43139 | [A7-FRL 1909-8].
(17) Report outlining commitments to TCMs, analysis of TCMs, and results of CO dispersion modeling | St. Louis | 2/12/81, 4/28/81 | 11/10/81, 46 FR 55518 | [A7-FRL 1958-3].
(18) 1982 CO and ozone SIP | St. Louis | 12/23/82, 8/24/83 | 10/15/84, 49 FR 40164 | [EPA Action MO 999; A-7-FRL-2691-8].
(19) Air quality monitoring plan | Statewide | 6/6/84 | 9/27/84, 49 FR 38103 | [EPA Action MO 1586; A-7-FRL-2682-5].
(20) Vehicle I/M program | St. Louis | 8/27/84 | 8/12/85, 50 FR 32411 | [MO-1619; A-7-FRL-2880-9].
(21) Visibility protection plan | Hercules Glades and Mingo Wildlife Area. | 5/3/85 | 2/10/86, 51 FR 4916 | [A-7-FRL-2967-5; MO 1809].
(22) Plan for attaining the ozone standard by December 31, 1987 | St. Louis | 8/1/85 | 9/3/86, 51 FR 31328 | [A-7-FRL-3073-3].
(23) PM10 plan | Statewide | 3/29/88, 6/15/88 | 7/31/89, 54 FR 31524 | [FRL-3621-8].
(24) Construction permit fees including Chapter 643 RSMo | Statewide | 1/24/89, 9/27/89 | 1/9/90, 55 FR 735 | [FRL-3703-4].
(25) PSD NOx requirements including a letter from the state pertaining to the rules and analysis | Statewide | 7/9/90 | 3/5/91, 56 FR 9172 | [FRL-3908-6].
(26) Lead plan | Herculaneum | 9/6/90, 5/8/91 | 3/6/92, 57 FR 8076 | [MO6-1-5333; FRL-4102-7].
(27) Ozone maintenance plan | Kansas City | 10/9/91 | 6/23/92, 57 FR 27939 | [Moll-1-5440; FRL-4140-7].
(28) Small business assistance plan | Statewide | 3/10/93 | 10/26/93, 58 FR 57563 | [MO-14-5860; FRL-4700-8].
(29) Part D Lead plan | Herculaneum | 7/2/93, 6/30/94, 11/23/94 | 5/5/95, 60 FR 22274 | [MO-17-1-6023A; FRL-5197-7].
(30) Intermediate permitting program including three letters pertaining to authority to limit potential to emit hazardous air pollutants | Statewide | 3/31/94, 11/7/94, 10/3/94, 2/10/95 | 9/25/95, 60 FR 49340 | [MO-21-1-6443(a); FRL-5289-6].
(31) Part D lead plan | Bixby | 7/2/93, 6/30/94 | 8/4/95, 60 FR 39851 | [MO-18-1-6024A; FRL-5263-9].
(32) Transportation conformity plans including a policy agreement and a letter committing to implement the state rule consistent with the Federal transportation conformity rule | St. Louis, Kansas City | 2/14/95 | 2/29/96, 61 FR 7711 | [MO-29-1-7151a; FRL-5425-2].
(33) Emissions inventory update including a motor vehicle emissions budget | Kansas City | 4/12/95 | 4/25/96, 61 FR 18251 | [KS-6-1-6985, MO-31-1-7153; FRL 5448-9].
(34) Part D Lead Plan | Glover | 8/14/96 | 3/5/97, 62 FR 9970 | [MO-015-1015a; FRL-5682-5].
(35) CO Maintenance Plan | St. Louis | 6/13/97, 6/15/98 | 1/26/99, 64 FR 3855 | [MO 043-1043(a); FRL-6220-1].
(36) 1990 Base Year Inventory | St. Louis | 1/20/95 | 2/17/00, 65 FR 8060 | [MO 092-1092; FRL-6528-7].
(37) 15% Rate-of-Progress Plan | St. Louis | 11/12/99 | 5/18/00, 65 FR 31485 | [MO 103-1103; FRL-6701-3].
(38) Implementation plan for the Missouri inspection maintenance program | St. Louis | 11/12/99 | 5/18/00, 65 FR 31480 | [MO 096-1096b; FRL-6701-6].
(39) Doe Run Resource Recycling Facility near Buick, MO | Dent Township in Iron County | 5/17/00 | 10/18/00, 65 FR 62295 | [MO 114-1114a; FRL-6885-6].
(40) Commitments with respect to implementation of rule 10 CSR 10-6.350, Emissions Limitations and Emissions Trading of Oxides of Nitrogen | Statewide | 8/8/00 | 12/28/00, 65 FR 82285 | [Region 7 Tracking No. 113-1113a; FRL-6923-2].
(41) Contingency Plan including letter of April 5, 2001 | St. Louis | 10/6/97, 4/5/01 | 6/26/01, 66 FR 33996 | [Tracking No. MO-0132-1132, IL 196-3; FRL-7001-7].
(42) Ozone 1-Hour Standard Attainment Demonstration Plan for November 2004 including 2004 On-Road Motor Vehicle Emissions Budgets | St. Louis | 11/10/99, 11/2/00, 2/28/01, 3/7/01 | 6/26/01, 66 FR 33996 | [MO-0132-1132, IL 196-3;FRL-7001-7].
(43) Doe Run Resources Corporation Primary lead Smelter, 2000 Revision of Lead SIP | Herculaneum, MO | 1/9/01 | 4/16/02, 67 FR 18497 | [MO 151-1151; FRL-7170-6].
(44) Doe Run Resources Corporation Primary Lead Smelter, 2000 Revision of Lead SIP | Glover, MO | 6/15/01 | 4/16/02, 67 FR 18497 | [MO 151-1151; FRL-7170-6].
(45) Maintenance Plan for the Missouri Portion of the St. Louis Ozone Nonattainment Area including 2014 On-Road Motor Vehicle Emission Budgets | St. Louis | 12/6/02 | 5/12/03, 68 FR 25414 | [MO 181-1181; FRL-7494-6].
(46) Maintenance Plan for the 1-hour ozone standard in the Missouri portion of the Kansas City maintenance area for the second ten-year period | Kansas City | 12/17/02 | 1/13/04, 69 FR 1921 | [MO 201-1201; FRL-7608-8].
(47) Vehicle I/M Program | St. Louis | 10/1/03 | 5/13/04, 69 FR 26503 | [R07-OAR-2004-MO-0001; FRL-7661-4].
(48) Revised Maintenance Plan of Doe Run Resource Recycling Facility near Buick, MO | Dent Township in Iron County | 4/29/03 | 8/24/04, 69 FR 51953 | [R07-OAR-2004-MO-0002; FRL-7805-1].
(49) Lead Maintenance Plan | Iron County (part) within boundaries of Liberty and Arcadia Townships | 1/26/04 | 10/29/04, 69 FR 63072 | [R07-OAR-2004-MO-0003; FRL-7831-1].
(50) Revision to Maintenance Plan for the 1-hour ozone standard in the Missouri portion of the Kansas City maintenance area for the second ten-year period | Kansas City | 10/28/05 | 6/26/06, 71 FR 36210 | [EPA-R07-OAR-2006-0286; FRL-8188-6].
(51) CAA 110(a)(2)(D)(i) SIP—Interstate Transport | Statewide | 2/27/07 | 5/8/07, 72 FR 25085 | [EPA-R07-OAR-2007-0249 FRL-8310-5].
(52) Submittal of the 2002 Base Year Inventory for the Missouri Portion of the St. Louis 8-hour ozone nonattainment area and Emissions Statement SIP | St. Louis | 6/15/06 | 5/31/07, 72 FR 30272 | [EPA-R07-OAR-2007-0383; FRL-8318-8].
(53) Maintenance Plan for the 8-hour ozone standard in the Missouri portion of the Kansas City area | Kansas City | 5/23/07 | 8/9/07, 72 FR 44778 | [EPA-R07-OAR-2007-0619 FRL-8450-7].
(54) Section 110(a)(2) Infrastructure Requirements for the 1997 8-Hour Ozone NAAQS | Statewide | 2/27/07 | 7/11/11, 76 FR 40619 | [EPA-R07-OAR-2011-0309 FRL-9429-1] This action addresses the following CAA elements, as applicable: 110(a)(2)(A), (B), (C), (D)(ii), (E), (F), (G), (H), (J), (K), (L), and (M).
(55) VOC RACT Requirements for the 8-hour ozone NAAQS | St. Louis | 1/17/07, 6/1/11, 8/30/11 | 1/23/12, 77 FR 3144. 1/6/14, 79 FR 580 | [EPA-R07-OAR-2011-0859 FRL-9621-1] [EPA-R07-OAR-2012-0767; FRL-9905-03-Region 7].
(56) CAA Section 110(a)(2) SIP-1978 Pb NAAQS | City of Herculaneum, MO | 7/29/09 | 2/17/12, 77 FR 9529 | [EPA-R07-OAR-2008-0538; FRL-9632-7].
(57) Regional Haze Plan for the first implementation period | Statewide | 8/5/09, supplemented 1/30/12 | 6/26/12, 77 FR 38007 | [EPA-R07-OAR-2012-0153; FRL-9688-1] § 52.1339(c); Limited Approval.
(58) Section 110(a)(2) Infrastructure Requirements for the 1997 PM2.5 NAAQS | Statewide | 2/27/07 | 6/21/13; 78 FR 37457 | [EPA-R07-OAR-2013-0208; FRL-9825-7] This action addresses the following CAA elements: 110(a)(2)(A), (B), (C), (D)(i)(II) prongs 3 and 4, (D)(ii), (E), (F), (G), (H), (J), (K), (L), and (M).
(59) Section 110(a)(2) Infrastructure Requirements for the 2006 PM2.5 NAAQS | Statewide | 12/28/09 | 6/21/13; 78 FR 37457 | [EPA-R07-OAR-2013-0208; FRL-9825-7] This action addresses the following CAA elements: 110(a)(2)(A), (B), (C), (D)(i)(II) prongs 3 and 4, (D)(ii), (E), (F), (G), (H), (J), (K), (L), and (M)
(60) Section 128 Declaration: Missouri Air Conservation Commission Representation and Conflicts of Interest Provisions; Missouri Revised Statutes (RSMo) RSMo 105.450, RSMo 105.452, RSMo 105.454, RSMo 105.462, RSMo 105.463, RSMo 105.466, RSMo 105.472, and RSMo 643.040.2 | Statewide | 8/08/12 | 6/21/13; 78 FR 37457 | [EPA-R07-OAR-2013-0208; FRL-9825-7].
(61) Section 110(a)(2) Infrastructure Requirements for the 2008 Pb NAAQS | Statewide | 12/20/11 | 8/19/14, 79 FR 48994 | [EPA-R07-OAR-2014-0290; FRL-9915-28-Region 7] This action addresses the following CAA elements: 110(a)(2)(A), (B), (C), (D), (E), (F), (G), (H), (J), (K), (L), and (M).
(62) Implementation Plan for the 2008 Lead NAAQS | City of Herculaneum, MO | 4/18/13 | 10/20/14, 79 FR 62574 | [EPA-R07-OAR-2014-0448; FRL-9918-18-Region-7]

[FR Doc. 2015-19092 Filed 8-5-15; 8:45 am]

BILLING CODE 6560-50-P